DEPARTMENT OF COMMERCE

National Oceanic and Atmospheric Administration

[RTID 0648-XE257]

Magnuson-Stevens Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Maine Department of Marine Resources (ME DMR). Regulations under the Magnuson-Stevens Fishery Conservation and Management Act and the Atlantic Coastal Fisheries Cooperative Management Act require publication of this notification to provide interested parties the opportunity to comment on applications for proposed EFPs.

DATES: Comments must be received on or before September 24, 2024.

ADDRESSES: You may submit written comments by email to nmfs.gar.efp@noaa.gov. Include in the subject line “ME DMR Ventless Trap EFP.”

FOR FURTHER INFORMATION CONTACT: Christine Ford, Fishery Management Specialist, Christine.Ford@noaa.gov, (978) 281-9185.

SUPPLEMENTARY INFORMATION: ME DMR submitted a complete application for an EFP to conduct commercial fishing activities that the regulations would otherwise restrict. The EFP would provide distribution, abundance, and biological data on juvenile lobsters and Jonah crabs from times and areas with low coverage from traditional surveys. This EFP would exempt the participating vessels from the following Federal regulations:

Table 1—Requested Exemptions
CFR citation | Regulation | Need for exemption
50 CFR 697.21(c) | Gear specification requirements | To allow for closed escape vents and smaller trap mesh and entrance heads.
§ 697.19 | Trap limit requirements | To allow for 3 additional traps per fishing vessel, for a total of up to 60 additional traps.
§ 697.19(j) | Trap tag requirements | To allow for the use of untagged traps (though each modified trap will have the participating fisherman's identification attached).
§§ 697.20(a), 697.20(d), 697.20(g), and 697.20(h)(1)-(2) | Possession restrictions | To allow for onboard biological sampling of undersized, v-notched, and egg-bearing lobsters and undersized and egg-bearing Jonah crabs.

Table 2—Project Summary
Project title | Maine lobster fishery dependent offshore ventless and commercial trap research program.
Project start | 11/04/2024.
Project end | 11/03/2025.
Project objectives | To develop a new survey, in partnership with Commercial Fisheries Research Foundation (CFRF), to provide distribution, abundance, and biological data on juvenile lobsters and Jonah crabs from times and areas in Federal waters with low coverage from traditional surveys.
Project location | Gulf of Maine: Statistical Areas 511, 512, and 513.
Number of vessels | Up to 20.
Number of trips | Up to 36 per vessel; up to 720 total.
Trip duration (days) | Up to 3.
Total number of days | Up to 108 per vessel; up to 2,160 total.
Gear type(s) | Trap.
Number of tows or sets | 1 per trip.
Duration of tows or sets | 7-10 days.

Project Narrative

This project would contribute to the ongoing effort by the CFRF to collect data on juvenile lobster and Jonah crab abundance and distribution in areas and times of the year with low or no coverage by traditional surveys.

This project would include up to 20 federally permitted Maine lobster vessels. Each vessel would fish with 3 modified, ventless traps designed to catch juvenile lobsters, totaling up to 60 modified traps. The ventless trap configuration is as follows: 40-inch length x 21-inch width x 14-inch height (101.6-centimeter (cm) length x 53.34-cm width x 35.56-cm height), single parlor, 1-inch (2.54-cm) square rubber-coated 12-gauge wire, standard shrimp mesh netting, cement runners, and 4- by 6-inch (10.16- by 15.24-cm) disabling door. The modified traps would adhere to the standard coastwide survey gear for lobster and Jonah crab set by the Atlantic States Marine Fisheries Commission and would be fished with standard Atlantic Large Whale Take Reduction Plan-compliant trawls.

This study would take place during regular fishing activity of the participating vessels, but catch from the modified traps would remain separate from that of standard gear. Operators would collect data on size, sex, presence of eggs, and shell hardness for lobsters and Jonah crabs, and v-notch and shell disease for lobsters. Operators would return all specimens from modified gear to the ocean once sampling is complete.

The study is designed to inform management by addressing questions about changing reproduction and recruitment dynamics of lobster and to develop a foundation of knowledge for the data-deficient Jonah crab fishery. All data collected by the participants using the CFRF data collection app would be sent to ME DMR for processing. ME DMR would then share final datasets with CFRF, to further share with the Atlantic Coastal Cooperative Statistics Program, the Northeast Fisheries Science Center, and the Atlantic States Marine Fisheries Commission.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

All comments received are a part of the public record and may be posted for public viewing without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: September 3, 2024.
Lindsay Fullenkamp,
Acting Director, Office of Sustainable Fisheries, National Marine Fisheries Service.

[FR Doc. 2024-20156 Filed 9-6-24; 8:45 am]

BILLING CODE 3510-22-P